DEPARTMENT OF HOUSING AND URBAN DEVELOPMENT

[Docket No. FR-5300-N-13]

Notice of Availability: Notice of Funding Availability (NOFA) for Fiscal Year (FY) 2009 Self-Help Homeownership Opportunity Program

AGENCY: Office of the Assistant Secretary for Community Planning and Development, HUD.

ACTION: Notice.

SUMMARY: Through this notice, HUD announces the availability on its Web site of the application information, submission deadlines, funding criteria, and other requirements for the FY2009 Self-Help Homeownership Opportunity Program (SHOP) NOFA. The FY2009 SHOP NOFA makes $26.5 million in assistance to national and regional nonprofit organizations and consortia which facilitate and encourage innovative homeownership opportunities for low-income individuals and families. The notice providing information regarding the application process, funding criteria and eligibility requirements is available on Grants.gov Web site http://apply07.grants.gov/apply/forms_apps_idx.html. A link to Grants.gov is also available on the HUD Web site at http://www.hud.gov/offices/adm/grants/fundsavail.cfm. The Catalogue of Federal Domestic Assistance (CFDA) number for the Self-Help Homeownership Opportunity Program is 14.247. Applications must be submitted electronically through Grants.gov.

FOR FURTHER INFORMATION CONTACT: For additional information concerning the Self-Help Homeownership Opportunity Program (SHOP), contact Lou Thompson, Office of Affordable Housing Programs, Office of Community Planning and Development, Department of Housing and Urban Development, 451 Seventh Street, SW., Room 7168, Washington, DC 20410-7000; telephone 202-402-4594 (this is not a toll-free number). Persons with speech or hearing impairments may access this telephone number via TTY by calling the toll-free Federal Information Relay Service during working hours at 800-877-8339.

Dated: June 12, 2009.
Nelson R. Bregòn,
General Deputy Assistant Secretary for Community Planning and Development.

[FR Doc. E9-17109 Filed 7-14-09; 4:15 pm]

BILLING CODE 4210-67-P